DEPARTMENT OF ENERGY

Extension of Comment Period, Draft Waste Incidental to Reprocessing Evaluation for Vitrified Low-Activity Waste Disposed Onsite at the Hanford Site, Washington

AGENCY: Department of Energy.

ACTION: Extension of comment period.

SUMMARY: On May 26, 2020, the U.S. Department of Energy (“DOE”) published in the Federal Register a Notice of Availability of the Draft Waste Incidental to Reprocessing Evaluation for Vitrified Low-Activity Waste Disposed Onsite at the Hanford Site, Washington (Draft WIR Evaluation). The original comment period began on May 26, 2020 and ended on September 26, 2020. This notice announces an extension of the comment period on the Draft WIR Evaluation until November 27, 2020; any comments received after that date will be considered to the extent practical.

DATES: The comment period in the Notice of Availability, published on May 26, 2020 (85 FR 31479), is extended until November 27, 2020. Any comments received after that date will be considered to the extent practical.

ADDRESSES: Comments may be submitted by email to ILAWDraftWIR@rl.gov. Alternately, written comments may also be sent by mail to: Jennifer Colburn, U.S. Department of Energy, P.O. Box 450, MSIN H6-60, Richland, WA 99354. The Draft WIR Evaluation is available on the internet at https://www.hanford.gov/page.cfm/VitrifiedLowActivityWaste and will be publicly available for review at the following locations once these facilities re-open following resolution of public health concerns associated with the coronavirus: U.S. DOE Public Reading Room, 1000 Independence Avenue SW, Washington, DC 20585, phone: (202) 586-5955, or fax: (202) 586-0575; and U.S. DOE Public Reading Room located at 2770 University Drive, Consolidated Information Center (CIC), Room 101L, Richland, WA 99354, phone: (509) 372-7303.

FOR FURTHER INFORMATION CONTACT: Mr. Gary L. Pyles by email at gary.pyles@rl.doe.gov, by mail at U.S. Department of Energy, Richland Operations Office, 2420 Stevens Center Place H520, Richland, WA 99354, or by phone at (509) 376-2670.

SUPPLEMENTARY INFORMATION: On May 26, 2020, DOE published in the Federal Register a notice of availability of the Draft WIR Evaluation for comment by States, Tribal Nations, stakeholders and the public (85 FR 31479). The original comment period began on May 26, 2020 and ended on September 26, 2020.

In response to requests to extend the comment period, DOE is extending the comment period by 60 days, until November 27, 2020. DOE will consider comments received after that date to the extent practical.

After carefully considering comments received, consulting with the Nuclear Regulatory Commission, and performing any necessary revisions of analyses and technical documents, DOE plans to issue a final WIR Evaluation. Based on the final WIR Evaluation, DOE may determine, in a future WIR Determination, whether the VLAW is incidental to reprocessing, is non-HLW, and may be managed (disposed of onsite at the Integrated Disposal Facility) as low-level radioactive waste.

Signing Authority

This document of the Department of Energy was signed on September 15, 2020, by Elizabeth A. Connell, Associate Principal Deputy Assistant Secretary for Regulatory and Policy Affairs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 17, 2020.
Treena V. Garrett,
Federal Register Liaison Officer, U.S. Department of Energy.

[FR Doc. 2020-20910 Filed 9-21-20; 8:45 am]

BILLING CODE 6450-01-P